DEPARTMENT OF COMMERCE

International Trade Administration

[A-489-501, C-489-502, A-489-822, C-489-823, A-489-816, C-489-817, A-489-833, C-489-834]

Circular Welded Carbon Steel Standard Pipe and Tube Products From the Republic of Turkey; Welded Line Pipe From the Republic of Turkey; Certain Oil Tubular Goods From the Republic of Turkey; and Large Diameter Welded Pipe From the Republic of Turkey: Notice of Initiation of Antidumping Duty and Countervailing Duty Changed Circumstances Reviews

AGENCY: Enforcement and Compliance, International Trade Administration, Department of Commerce.

SUMMARY: The U.S. Department of Commerce (Commerce) is initiating changed circumstances reviews (CCRs) to determine if Borusan Birleşik Boru Fabrikalari Sanayi ve Ticaret A.S. (Borusan Boru) is the successor-in-interest to Borusan Mannesmann Boru Sanayi ve Ticaret A.S. (BMB) in the context of the antidumping duty (AD) and countervailing duty (CVD) orders on circular welded carbon steel standard pipe and tube products (standard pipe), welded line pipe (WLP), certain oil tubular goods (OCTG), and large diameter welded pipe (LDWP) from the Republic of Turkey (Turkey).

DATES: Applicable February 26, 2024.

FOR FURTHER INFORMATION CONTACT: Herawe Kebede, AD/CVD Operations, Office IX, Enforcement and Compliance, International Trade Administration, U.S. Department of Commerce, 1401 Constitution Avenue NW, Washington, DC 20230; telephone: (202) 482-4312.

SUPPLEMENTARY INFORMATION:

Background

On May 15, 1986, March 7, 1986, December 1, 2015, September 10, 2014, and May 2, 2019, respectively, Commerce published in the Federal Register AD and CVD orders on standard pipe, WLP, OCTG, and LDWP from Turkey.¹ On January 9, 2024, Borusan Boru requested that, pursuant to section 751(b)(1) of the Tariff Act of 1930, as amended (the Act), 19 CFR 351.216, and 19 CFR 351.221(c)(3), Commerce conduct expedited CCRs to determine that Borusan Boru is the successor-in-interest to BMB and accordingly to: (1) assign it the cash deposit rates currently applicable to BMB pursuant to Standard Pipe AD Order; Standard Pipe CVD Order; Welded Line Pipe AD Order; Welded Line Pipe CVD Order; and OCTG CVD Order; and (2) exclude it from OCTG AD Order; LDWP AD Order; and LDWP CVD Order.² In its submission, Borusan Boru stated that in 2023 it changed its name from BMB pursuant to the termination of its partnership with Salzgitter Mannesmann GmbH.³

¹ See Antidumping Duty Order; Welded Carbon Steel Standard Pipe and Tube Products from Turkey, 51 FR 17784 (May 15, 1986) (Standard Pipe AD Order); Countervailing Duty Order: Certain Welded Carbon Steel Pipe and Tube Products from Turkey, 51 FR 7984 (March 7, 1986) (Standard Pipe CVD Order); Welded Line Pipe from the Republic of Korea and the Republic of Turkey: Antidumping Duty Orders, 80 FR 75056 (December 1, 2015) (Welded Line Pipe AD Order); Welded Line Pipe from the Republic of Turkey: Countervailing Duty Order, 80 FR 75054 (December 1, 2015) (Welded Line Pipe CVD Order); Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691, 53693 (September 10, 2014) (OCTG AD Order); Certain Oil Country Tubular Goods from India and the Republic of Turkey: Countervailing Duty Orders and Amended Affirmative Final Countervailing Duty Determination for India, 79 FR 53688 (September 10, 2014) (OCTG CVD Order); Large Diameter Welded Pipe from the Republic of Turkey: Amended Final Affirmative Antidumping Duty Determination and Antidumping Duty Order, 84 FR 18799 (May 2, 2019) (LDWP AD Order); and Large Diameter Welded Pipe from the Republic of Turkey: Countervailing Duty Order, 84 FR 18771 (May 2, 2019) (LDWP CVD Order).

² See Borusan Boru's Letter, “Notification of Company Name Change and Request for Changed Circumstances Review, If Deemed Necessary: Name Change of Borusan Mannesmann Boru Sanayi ve Ticaret A.S. and Boruson Mannesmann Pipe U.S.,” dated January 8, 2024 (Borusan Boru's CCR Request). In Borusan Boru's CCR Request, Borusan Boru also requested that Commerce conduct a CCR to determine if Borusan Mannesmann Pipe U.S. is the successor-in-interest to Borusan Pipe U.S. Inc. However, because we do not assign cash deposit rates to U.S. companies, we do not intend to conduct this analysis.

³ Id.

Scope of the Orders

The merchandise covered by these orders is standard pipe, WLP, OCTG, and LDWP from Turkey. For a complete description of the scope of each of these orders, see Standard Pipe AD Order; Standard Pipe CVD Order; Welded Line Pipe AD Order; Welded Line Pipe CVD Order; OCTG AD Order; OCTG CVD Order; LDWP AD Order; and LDWP CVD Order.⁴

⁴ See Standard Pipe AD Order, 51 FR at 17784; Standard Pipe CVD Order, 51 FR at 7984; Welded Line Pipe AD Order, 80 FR at 75056-57; Welded Line Pipe CVD Order, 80 FR at 75054; OCTG AD Order, 79 FR at 53691-92; OCTG CVD Order, 79 FR at 53689; LDWP AD Order, 84 FR at 18801; and LDWP CVD Order, 84 FR at 18773.

Initiation of CCRs

Pursuant to section 751(b)(1)(A) of the Act and 19 CFR 351.216(d), Commerce conducts a CCR upon receipt of information concerning, or a request from, an interested party for a review of an AD or CVD order which shows changed circumstances sufficient to warrant a review of the order. The information submitted by Borusan Boru regarding its claim that it is the successor-in-interest to BMB demonstrates changed circumstances sufficient to warrant the initiation of such reviews.⁵ Therefore, in accordance with section 751(b)(1)(A) of the Act and 19 CFR 351.216(d) and (e), we are initiating these CCRs.

⁵ See Borusan Boru's CCR Request.

In making a successor-in-interest determination, Commerce examines several factors, including, but not limited to, changes in the following: (1) management; (2) production facilities; (3) supplier relationships; and (4) customer base.⁶ While no single factor or combination of factors will necessarily provide a dispositive indication of a successor-in-interest relationship, generally, Commerce will consider the new company to be the successor to the previous company if the new company's resulting operation is not materially dissimilar to that of its predecessor.⁷ Thus, if the record evidence demonstrates that, with respect to the production and sale of the subject merchandise, the new company operates as the same business entity as the predecessor company, Commerce may assign the new company the cash deposit rate of its predecessor.⁸

⁶ See, e.g., Certain Frozen Warmwater Shrimp from India: Initiation and Preliminary Results of Antidumping Duty Changed Circumstances Review, 81 FR 75376 (October 31, 2016) (Shrimp from India Preliminary Results), unchanged in Certain Frozen Warmwater Shrimp from India: Notice of Final Results of Antidumping Duty Changed Circumstances Review, 81 FR 90774 (December 15, 2016) (Shrimp from India Final Results).

⁷ See, e.g., Shrimp from India Preliminary Results, 81 FR at 75377, unchanged in Shrimp from India Final Results, 81 FR at 90774.

⁸ Id.; see also Notice of Final Results of Changed Circumstances Antidumping Duty Administrative Review: Polychloroprene Rubber from Japan, 67 FR 58, 59 (January 2, 2002); Ball Bearings and Parts Thereof from France: Final Results of Changed-Circumstances Review, 75 FR 34688, 34689 (June 18, 2010); and Circular Welded Non-Alloy Steel Pipe from the Republic of Korea; Preliminary Results of Antidumping Duty Changed Circumstances Review, 63 FR 14679 (March 26, 1998), unchanged in Circular Welded Non-Alloy Steel Pipe from Korea; Final Results of Antidumping Duty Changed Circumstances Review, 63 FR 20572 (April 27, 1998), in which Commerce found that a company which only changed its name and did not change its operations is a successor-in-interest to the company before it changed its name.

Pursuant to 19 CFR 351.221(c)(3)(ii), Commerce may combine the notices of initiation and preliminary results of a CCR into a single notice if it concludes that expedited action is warranted. We have determined that it is appropriate to further consider, and potentially seek additional information regarding, certain factors noted above that Commerce examines in a successor-in-interest determination. Therefore, we find that expedited action is not warranted. Commerce intends to make its preliminary determinations and to publish in the Federal Register a notice of the preliminary results of these CCRs, in accordance with 19 CFR 351.221(b)(4) and (c)(3)(i), which will set forth Commerce's preliminary factual and legal conclusions. Pursuant to 19 CFR 351.221(b)(4)(ii), interested parties will have an opportunity to comment on the preliminary results.

Unless extended, Commerce intends to issue the final results of this CCR within 270 days after the date of initiation, in accordance with 19 CFR 351.216(e).

Notification to Interested Parties

We are issuing this notice in accordance with sections 751(b)(1) and 777(i) of the Act and 19 CFR 351.216(b) and 351.221(b)(1).

Dated: February 20, 2024.
James Maeder,
Deputy Assistant Secretary for Antidumping and Countervailing Duty Operations.

[FR Doc. 2024-03856 Filed 2-23-24; 8:45 am]

BILLING CODE 3510-DS-P